FEDERAL COMMUNICATIONS COMMISSION

47 CFR Part 73

[DA 04-3337; MB Docket No. 04-150; RM-10857]

Radio Broadcasting Services; Burlington and Trenton, NJ

AGENCY: Federal Communications Commission.

ACTION: Final rule.

SUMMARY: In response to petition for rule making filed by Nassau Broadcasting, ll, L.L.C. this document reallots Channel 248B from Trenton to Burlington, New Jersey, and modifies the Station WPST license to specify operation on Channel 248B at Burlington. See 69 FR 25874, May 10, 2004. The reference coordinates for the Channel 248B allotment at Burlington, New Jersey, are 40-14-05 and 74-46-02. With this action, the proceeding is terminated.

DATES: Effective December 10, 2004.

FOR FURTHER INFORMATION CONTACT: Robert Hayne, Media Bureau, (202) 418-2177.

SUPPLEMENTARY INFORMATION: This is a synopsis of the Report and Order in MB Docket No. 04-150 adopted October 20, 2004, and released October 25, 2004. The full text of this decision is available for inspection and copying during normal business hours in the FCC Reference Information Center at Portals ll, CY-A257, 445 12th Street, SW., Washington, DC. The complete text of this decision may also be purchased from the Commission's copy contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under New Jersey, is amended by removing Channel 248B at Trenton, and adding Burlington, Channel 248B.

Federal Communications Commission.
John A. Karousos,
Assistant Chief, Audio Division, Media Bureau.

[FR Doc. 04-24829 Filed 11-5-04; 8:45 am]

BILLING CODE 6712-01-P